ENVIRONMENTAL PROTECTION AGENCY

[ER-FRL-9031-4]

Environmental Impact Statements; Notice of Availability

Responsible Agency: Office of Federal Activities, General Information (202) 564-7146 or http://www.epa.gov/nepa.

Weekly receipt of Environmental Impact Statements

Filed 01/09/2017 Through 01/13/2017

Pursuant to 40 CFR 1506.9.

Notice

Section 309(a) of the Clean Air Act requires that EPA make public its comments on EISs issued by other Federal agencies. EPA's comment letters on EISs are available at: http://www.epa.gov/compliance/nepa/eisdata.html.

EIS No. 20170011, Draft, APHIS, Other, Revisions to USDA-APHIS 7 CFR part 340 Regulations Governing the Importation, Interstate Movement, and Environmental Release of Genetically Engineered Organisms, Comment Period Ends: 05/22/2017, Contact: Cindy Eck 301-851-3892.

EIS No. 20170012, Final, TVA, TN, Bull Run Fossil Plant Landfill, Review Period Ends: 02/21/2017, Contact: Anita E. Masters 423-751-8697.

EIS No. 20170013, Final, NPS, CA, Alcatraz Ferry Embarkation, Review Period Ends: 02/21/2017, Contact: Brian Aviles 415-561-4942.

EIS No. 20170014, Draft, APHIS, Other, Regulation of the Importation, Interstate Movement, and Intrastate Movement of Plant Pests, Comment Period Ends: 03/20/2017, Contact: Tracy Willard 301-851-3101.

EIS No. 20170015, Final, USFS, AZ, Camp Tatiyee Land Exchange, Review Period Ends: 02/21/2017, Contact: Randall Chavez 928-368-2106.

Amended Notices

EIS No. 20160263, Draft, USN, WA, EA-18G “Growler” Airfield Operations at the NAS Whidbey Island Complex, Comment Period Ends: 02/24/2017, Contact: Sarah Stallings 757-322-4733.

Revision to FR Notice Published 11/10/2016; Extending Comment Period from 01/25/2017 to 02/24/2017.

EIS No. 20160274, Draft, FHWA, NY, NYS Route 198 (Scajaquada Expressway) Corridor Project, Comment Period Ends: 01/25/2017, Contact: Peter Osborn 518-431-4127.

Revision to FR Notice Published 11/25/2016; Extending Comment Period from 01/25/2017 to 02/08/2017.

EIS No. 20160319, Draft, BLM, CA, Central Coast Field Office Draft Resource Management Plan Amendment for the Oil and Gas Leasing and Development, Comment Period Ends: 04/06/2017, Contact: Melinda Moffitt 916-978-4376.

Revision to FR Notice Published 01/06/2017; Extending Comment Period from 02/21/2017 to 04/06/2017.

Dated: January 17, 2017.
Dawn Roberts,
Management Analyst, NEPA Compliance Division, Office of Federal Activities.

[FR Doc. 2017-01426 Filed 1-19-17; 8:45 am]

BILLING CODE 6560-50-P